INTERNATIONAL TRADE COMMISSION

[Investigation No. 337-TA-1232 (Enforcement)]

Certain Chocolate Milk Powder and Packaging Thereof; Correction Notice of Institution of Formal Enforcement Proceeding; Correction

AGENCY: U.S. International Trade Commission.

ACTION: Notice; correction.

SUMMARY: Correction is made to the investigation number.

SUPPLEMENTARY INFORMATION:

Correction

In the Federal Register of November 16, 2023 (88 FR 78786-87) in FR Doc. 2023-25279, on page 78786, in the first column, the investigation number should read:

[Investigation No. 337-TA-1232].

Issued: February 26, 2024.
Sharon Bellamy,
Supervisory Hearings and Information Officer.

[FR Doc. 2024-04289 Filed 2-29-24; 8:45 am]

BILLING CODE 7020-02-P